GENERAL SERVICES ADMINISTRATION

48 CFR Parts 538 and 552

RIN 3090-AH25

Identification of Energy-Efficient Office Equipment and Supplies Containing Recovered Materials or Other Environmental Attributes

AGENCY: Office of Acquisition Policy, GSA.

ACTION: Proposed rule.

SUMMARY: The General Services Administration (GSA) proposes to amend the GSA Acquisition Regulation (GSAR) for consistency with the proposed Federal Acquisition Regulation (FAR) revision of energy conservation regulations and President Clinton's issuance of Executive Order 13123 on efficient energy management.

DATES: Comments should be submitted on or before September 18, 2000.

ADDRESSES: Mail comments to General Services Administration, Office of Acquisition Policy, Division (MVP), 1800 F Street, NW., Room 4015, Washington, DC 20405.

FOR FURTHER INFORMATION CONTACT: Beverly Cromer, GSA Acquisition Policy Division, (202) 208-6750.

SUPPLEMENTARY INFORMATION:

A. Background

GSAR 538.273(a)(3) is revised to reflect the new clause title. Clause 552.238-72, Identification of Products that Contain Recovered Materials, are Energy-Efficient, or Have Other Environmental Attributes (e.g., Reduced Pollutants), is revised to update the definition of energy-efficient products and to reflect language that is consistent with Executive Order 13123 (64 FR 30851) and proposed FAR Part 23.2 (FAR Case 99-011, 65 FR 30311, May 10, 2000).

B. Executive Order 12866

This regulatory action is not subject to Office of Management and Budget review under Section 6(b) of Executive Order 12866, Regulatory Planning and Review, dated September 30, 1993. This rule is not a major rule under 5 U.S.C. 804.

C. Regulatory Flexibility Act

GSA certifies that this proposed rule will not have a significant economic impact on a substantial number of small entities within the meaning of the Regulatory Flexibility Act, 5 U.S.C. 601, et seq.

D. Paperwork Reduction Act

The revised clause at 552.238-72, Identification of Products that Contain Recovered Materials, are Energy-Efficient, or Have Other Environmental Attributes (e.g., Reduced Pollutants), contains an information collection requirement subject to the Paperwork Reduction Act (44 U.S.C. 3501 et seq.). However, the revisions to the clause made by this rule do not affect the information collection requirement which was approved previously by OMB and assigned control number 3090-0262.

List of Subjects in 48 CFR Parts 538 and 552

Government procurement.

Accordingly, 48 CFR parts 538 and 552 are proposed to be amended as follows:

1. The authority citation for 48 CFR Parts 538 and 552 continues to read as follows:

Authority: 40 U.S.C. 486(c).

PART 538—FEDERAL SUPPLY SCHEDULE CONTRACTING

2. Revise section 538.273(a)(3) to read as follows:

538.273 Contract clauses.

* * * * *

(a) * * *

(3) 552.238-72, Identification of Products that Contain Recovered Materials, are Energy-Efficient, or Have Other Environmental Attributes (e.g., Reduced Pollutants).

* * * * *

PART 552—SOLICITATION PROVISIONS AND CONTRACT CLAUSES

3. Amend section 552.212-72 by revising the date of the clause and by revising the title of the clause in paragraph 552.238-72(b) to read as follows:

552.212-72 Contract Terms and Conditions Required to Implement Statutes or Executive Orders Applicable to GSA Acquisition of Commercial Items.

CONTRACT TERMS AND CONDITIONS REQUIRED TO IMPLEMENT STATUTES OR EXECUTIVE ORDERS APPLICABLE TO GSA ACQUISITION OF COMMERCIAL ITEMS (DATE)

* * * * *

___ 552.238-72 Identification of Products that Contain Recovered Materials, are Energy-Efficient, or Have Other Environmental Attributes (e.g., Reduced Pollutants)

* * * * *

4. Revise section 552.238-72 to read as follows:

552.238-72 Identification of Products that Contain Recovered Materials, are Energy-Efficient, or Have Other Environmental Attributes (e.g., Reduced Pollutants).

As prescribed in 538.273(a)(3), insert the following clause:

IDENTIFICATION OF PRODUCTS THAT CONTAIN RECOVERED MATERIALS, ARE ENERGY-EFFICIENT, OR HAVE OTHER ENVIRONMENTAL ATTRIBUTES (e.g., REDUCED POLLUTANTS) (DATE)

Several laws, Executive orders, and Agency directives require Federal buyers to purchase products and services that are less harmful to the environment, when they are life cycle cost-effective (see FAR Subpart 23.7). The U.S. General Services Administration (GSA) requires contractors to highlight environmental products and services under Federal Supply Service Schedule contracts in various communications media; e.g., publications and electronic formats.

(a) Definitions. “Recovered Materials,” as used in this clause, means waste material and by-products which have been recovered or diverted from solid waste. This term does not include those materials and by-products generated from, and commonly reused, within an original manufacturing process (42 U.S.C. 6903(19)). For paper, it also includes postconsumer materials, and manufacturing certain other wastes. (42 U.S.C. 6962(h)). Note that the Environmental Protection Agency (EPA) has developed a list of Comprehensive Procurement Guideline Items (CPG Items) that directs Federal agencies to purchase products that meet recommended minimum recovered materials levels for specific products (40 CFR Part 247).

“Energy-Efficient Product,” as used in this clause, refers to a product that is either ENERGY STAR® labeled or its energy consumption measures in the upper 25 percent of efficiency within its comparable class of products as designated by the Department of Energy Federal Energy Management Program (FEMP). (See Executive Order 13123)

“Other Environmental Attributes,” as used in this clause, refers to product characteristics that provide environmental benefits, excluding recovered materials and energy and water efficiency. Several examples of these characteristics are biodegradable, recyclable, reduced pollutants, ozone safe, and low volatile organic compounds (VOCs).

“GAS Advantage,” as used in this clause, refers to the GSA electronic on-line shopping mall that makes it easier for Federal employees to order products and services via the internet.

(b) The offeror must identify products that contain recovered or remanufactured materials, are energy-efficient, water-efficient or have other environmental attributes in each of the offeror's following mediums:

(1) The offer itself;

(2) Printed commercial catalogs, brochures, and pricelists;

(3) Online product website; and,

(4) Electronic data submission for GSAAdvantage!

(c) An offeror, in identifying an item with an environmental attribute, must possess evidence or rely on a reasonable basis to substantiate the claim (see 16 CFR 260, Guides for the Use of Environmental Marketing Claims). The government will accept an offeror's claim of an item's environmental attribute on the basis of—

(1) Participation in a Federal agency sponsored program, e.g., the EPA and DOE Energy Star product labeling program;

(2) Verification by an independent organization that specializes in certifying such claims; or

(3) Possession of competent and reliable evidence. For any test, analysis research, study, or other evidence to be “competent and reliable,” it must have been conducted and evaluated in an objective manner by persons qualified to do so, using procedures generally accepted in the profession to yield accurate and reliable results.

(End of clause)

Dated: July 12, 2000.
David Drabkin,
Deputy Associate Administrator for Acquisition Policy.

[FR Doc. 00-18062 Filed 7-17-00; 8:45 am]

BILLING CODE 6820-61-M